DEPARTMENT OF ENERGY

Federal Energy Regulatory Commission

[Docket No. RP03-188-001]

East Tennessee Natural Gas Company; Notice of Compliance Filing

January 22, 2003.

Take notice that on January 15, 2003, East Tennessee Natural Gas Company (East Tennessee) tendered for filing as part of its FERC Gas Tariff, Second Revised Volume No. 1, Sub Twenty-Fifth Revised Sheet No. 4, to be effective January 6, 2003.

East Tennessee states that the purpose of this filing is to comply with the directives of the Commission's Order dated January 3, 2003, in Docket No. RP03-188-000. The January 3 Order directed East Tennessee to file, within twenty days, a revised Twenty-Fifth Revised Sheet No. 4 to reflect the maximum daily volumetric firm rate separately for each of the three expansion projects (Rocky Top, Gateway and Murray) and the non-expansion FT-A rate. In this compliance filing, East Tennessee hereby submits the revised tariff sheet required by the January 3 Order.

East Tennessee states that copies of its filing have been mailed to all affected customers of East Tennessee and interested state commissions, and all parties on the Commission's official service list in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 27, 2003.

Magalie R. Salas,
Secretary.

[FR Doc. 03-1941 Filed 1-27-03; 8:45 am]

BILLING CODE 6717-01-P